ENVIRONMENTAL PROTECTION AGENCY

[OEI-10011; FRL-6723-4]

Fall 2001 Workshop Schedules for EPCRA/TRI Training on the New Reporting Requirements for Lead and Lead Compounds

AGENCY: Environmental Protection Agency (EPA).

ACTION: Notice.

SUMMARY: EPA will conduct full-day EPCRA/TRI Training workshops across the country during the fall of 2001. These workshops are intended to assist persons preparing their annual reports on release and other waste management activities of listed chemicals, particularly lead and lead compounds, as required under sections 313 of the Emergency Planning and Community Right-To-Know Act of 1986 (EPCRA) and section 6607 of the Pollution Prevention Act of 1990 (PPA). These reports must be submitted to EPA and designated state officials on or before July 1 of each year. A portion of each workshop will focus on preparing annual reports on chemical releases and other waste management activities under the new reporting requirements for lead and lead compounds; these reports are due by July 1, 2002.

FOR FURTHER INFORMATION CONTACT: Stephen C. DeVito, (202) 260-6185, devito.steve@epa.gov for specific information on this notice. Information concerning the EPCRA/TRI Training workshops is also available on EPA's web site at http://www.epa.gov/tri.

SUPPLEMENTARY INFORMATION:

I. General Information

A. Does This Notice Apply to Me?

You may find this notice applicable if you manufacture, process, or otherwise use any EPCRA section 313 listed toxic chemical, particularly lead, lead compounds, or brass, bronze or stainless steel alloys that contain lead. Potentially applicable categories and entities may include, but are not limited to:

Category | Examples of regulated entities
Industry | Metal mining, Coal mining, Manufacturing, Electricity generating facilities, Hazardous waste treatment/TSDF, Chemicals and allied products-wholesale, Petroleum bulk plants and terminals, and Solvent recovery services.
Federal Government | Federal facilities

This table is not intended to be exhaustive, but rather provides a guide for readers regarding entities likely to find this notice of training workshops offerings applicable. Other types of entities not listed in the table may also find this notice applicable. To determine whether your facility could find this notice applicable, you should carefully examine the applicability criteria in part 372 subpart B of Title 40 of the Code of Federal Regulations. If you have questions regarding the applicability of this action to a particular entity, consult the person listed in the preceding FOR FURTHER INFORMATION CONTACT section. You may want to attend one of these workshops if:

your facility is covered under section 313 of the Emergency Planning and Community Right-To-Know Act (EPCRA);

your facility is a federal facility that manufactures, processes, or otherwise uses section 313 listed toxic chemicals;

you prepare annual release and other waste management activity reports (i.e., Form R or Form A reports);

you are a consultant who assists in the preparation of these reports; or

you would like information on recent changes to EPCRA/TRI regulations, particularly those pertaining to lead and lead compounds.

The EPA conducts training workshops to assist you with your reporting requirements under section 313 of the Emergency Planning and Community Right-to-Know Act of 1986 (EPCRA) and section 6607 of the Pollution Prevention Act of 1990 (PPA) or Executive Order 13148 (for federal facilities). You must submit your annual release and other waste management activity reports (i.e., Form R) if your facility meets the descriptions for the following Standard Industrial Classification (SIC) codes and qualifiers, and meets other criteria specified in part 372 of Title 40 of the Code of Federal Regulations:

Metal Mining (SIC Code 10, except 1011, 1081, and 1094);

Coal Mining (SIC Code 12, except 1241);

Manufacturing (SIC Codes 20-39)

Electricity Generating Facilities (SIC Codes 4911, 4931, and 4939—limited to facilities that combust coal and/or oil for the purpose of generating electricity for distribution in commerce);

Hazardous Waste Treatment/TSDF (SIC Code 4953—limited to facilities regulated under RCRA subtitle C, 42 U.S.C. section 6921 et seq.);

Chemicals and Allied Products (SIC Code 5169);

Petroleum Bulk Plants and Terminals (SIC Code 5171);

Solvent Recovery (SIC Code 7389—limited to facilities primarily engaged in solvent recovery services on a contract or fee basis); and

Federal Facilities (by Executive Order 13148).

B. What Is Presented at These Training Workshops?

The training workshops present general information on the reporting requirements of EPCRA section 313 and PPA section 6607, and detailed information on the new reporting requirements for lead and lead compounds. On January 17, 2001 EPA published a final rule entitled “Lead and Lead Compounds; Lowering of Reporting Thresholds; Community Right-to-Know Toxic Chemical Release Reporting; Final Rule” (Federal Register, 66 (11), pages 4499-4547). In this rulemaking EPA concluded that lead and lead compounds are persistent and bioaccumulative and meet EPA's criteria for classification as PBTs. With this rulemaking EPA lowered the 25,000 pound and 10,000 pound reporting thresholds to 100 pounds. The lower reporting threshold applies to lead and all listed lead compounds, except for lead contained in stainless steel, brass and bronze alloys. Thus, any facility that manufactures, processes or otherwise uses 100 pounds or more of lead or any listed lead compound(s) per year must report environmental releases of these substances to EPA annually. The first year for release reporting under this new rule is calendar year 2001. Release reports are due no later than July 1, 2002. These workshops will provide clear guidance on: the specific details of this new regulation; which facilities must file release reports for lead and lead compounds; which forms of lead and lead compounds are exempt from reporting; and methods to estimate releases of lead and lead compounds into the environment following manufacture, processing, use, or waste management activities of lead and lead compounds.

A variety of hands-on exercises along with supporting materials will be used to help you understand any reporting obligations you might have under EPCRA section 313, particularly for reporting releases and other waste management activities of lead and lead compounds. The training courses are scheduled in the fall to assist you in preparing and submitting your report(s) for the Reporting Year 2001, which are due on or before July 1, 2002.

C. How Much Time Is Required for the Training Workshops?

Each workshop will run for a full business day (i.e., from approximately 8:30 am to 5:00 pm) and will consist of two half-day modules. The first module is given in the morning and is devoted to a general discussion of EPCRA section 313 and PPA section 6607 reporting requirements, with exercises used to reinforce key concepts. The second module is given in the afternoon and is devoted to discussions on the new reporting requirements and reporting changes for lead and lead compounds, as required by the new TRI lead rule.

D. When and Where Are These Training Workshops Offered, and How Do I Register?

The dates, locations and individual contact information for training workshops are provided below. You should note that although unlikely, changes to the date or location of a given workshop may occur. Also, if there is insufficient interest for any of the workshops, those workshops may be canceled. The Agency bears no responsibility for your decision to purchase non-refundable transportation tickets or accommodation reservations. It is advisable to verify a workshop date and location prior to registering for the workshop. You may access current training workshop schedule information via the TRI Home Page (http://www.epa.gov/tri). You may also direct specific questions regarding registration, dates and locations for specific training workshops to the contact individual listed below.

Fall 2001 EPCRA/TRI Training Workshop Schedule¹
Date | General location | EPA contact person
November 9, 2001 | San Francisco, CA (EPA Region 9) | Adam Browning, phone: 415-744-1121, e-mail: browning.adam@epa.gov
November 13, 2001 | Seattle, WA (EPA Region 10) | David Somers, phone: 206-553-2571, e-mail: somers.david@epa.gov
November 16, 2001 | Kansas City, KS (EPA Region 7) | Stephen Wurtz, phone: 913-551-7315, e-mail: wurtz.stephen@epa.gov
November 21, 2001 | Dallas, TX (EPA Region 6) | Warren Layne, phone: 214-665-8013, e-mail: layne.warren@epa.gov
November 27, 2001 | Philadelphia, PA (EPA Region 3) | William Reilly, phone: 215-814-2072, e-mail: reilly.william@epa.gov
November 28, 2001 | Atlanta, GA, (EPA Region 4) | Ezequiel Velez, phone: 404-562-9191, e-mail: velez.equiel@epa.gov
December 4, 2001 | Boston, MA (EPA Region 1) | Dwight Peavey, phone: 617-918-1829, e-mail: peavey.dwight@epa.gov
December 5, 2001 | Chicago, IL (EPA Region 5) | Thelma Codina, phone: 312-886-6219, e-mail: codina.thelma@epa.gov
¹ This schedule may change without further notice. A schedule reflecting any changes to this notice will be posted at http://www.epa.gov/tri.

E. How Much Will the Training Course Cost?

There are generally no registration fees for the Training Workshops. If registration fees are required you will be notified at the time of registration. You should check with the contact person of a particular workshop for information regarding registration fees.

List of Subjects

Environmental protection, Community right-to-know, Reporting and recordkeeping requirements, Toxics release inventory.

Dated: October 18, 2001.
Elaine G. Stanley,
Director, Office of Information Analysis and Access.

[FR Doc. 01-27119 Filed 10-26-01; 8:45 am]

BILLING CODE 6560-50-F